DEPARTMENT OF THE TREASURY

Internal Revenue Service

Electronic Tax Administration Advisory Committee; Public Meeting

AGENCY: Internal Revenue Service, Department of Treasury.

ACTION: Notice of public meeting.

SUMMARY: The Electronic Tax Administration Advisory Committee will hold a public meeting.

DATES: Wednesday, June 25, 2025.

ADDRESSES: 1111 Constitution Ave. NW, Washington, DC 20224.

FOR FURTHER INFORMATION CONTACT: Anna Millikan, Office of National Public Liaison, at 202-317-6564, or send an email to PublicLiaison@irs.gov.

SUPPLEMENTARY INFORMATION: Pursuant to the Federal Advisory Committee Act, the Internal Revenue Service announces the Electronic Tax Administration Advisory Committee (ETAAC) will hold a public meeting on Wednesday, June 25, 2025, from 9:00 to 11:30 a.m. Eastern.

The meeting will be held in person at 1111 Constitution Ave. NW, Washington, DC. Members of the public planning to attend should register by June 20 by contacting Anna Millikan at 202-317-6564 or sending an email to PublicLiaison@irs.gov.

Agenda items to be discussed may include but are not limited to: Simplification of Tax Administration; Sustaining Adequate Funding and Modernization; Enhancing Digital Payment and Filing Processes; Regulating Tax Preparers and Promoting Transparency; and Leveraging Human-Centered Design and Advanced Technologies. Last-minute agenda changes may preclude advance notice.

The purpose of the ETAAC is to provide continuing advice regarding the development and implementation of the IRS organizational strategy for electronic tax administration. ETAAC is an organized public forum for discussion of electronic tax administration issues such as prevention of identity theft and refund fraud. It supports the overriding goal that paperless filing should be the preferred and most convenient method of filing tax and information returns. ETAAC members convey the public's perceptions of IRS electronic tax administration activities, offer constructive observations about current or proposed policies, programs, and procedures, and suggest improvements.

Should you wish the ETAAC to consider a written statement germane to the committee's work, file the statement by sending an email to PublicLiaison@irs.gov by June 20, 2025.

Dated: May 6, 2025.
John A. Lipold,
Designated Federal Official, Office of National Public Liaison, Internal Revenue Service.

[FR Doc. 2025-08899 Filed 5-16-25; 8:45 am]

BILLING CODE P